DEPARTMENT OF COMMERCE

National Oceanic and Atmospheric Administration

The 48th Meeting of the U.S. Coral Reef Task Force

AGENCY: The Coral Reef Conservation Program, Office for Coastal Management, National Ocean Service, National Oceanic and Atmospheric Administration (NOAA), Department of Commerce.

ACTION: Notice of meeting; request for comments.

SUMMARY: NOAA and the Department of Interior (DOI) will hold the 48th meeting of the U.S. Coral Reef Task Force (USCRTF). NOAA and DOI will be accepting oral and written comments.

DATES: NOAA and DOI will hold a public meeting on Thursday, May 2, 2024, from 8:30 a.m. to 5 p.m. Eastern Time (ET) at the NOAA Auditorium located at 1305 East-West Highway, Silver Spring, Maryland 20910. Written comments must be received before 8 a.m. ET on May 1, 2024.

ADDRESSES: Comments may be submitted by the following methods:

Oral Comments: NOAA and DOI will accept oral comments at the meeting on Thursday, May 2, 2024, from 2:00 p.m. to 2:30 p.m. ET.

Email: Please direct written comments to Michael Lameier, NOAA, USCRTF Steering Committee Point of Contact, NOAA Coral Reef Conservation Program, via email at michael.lameier@noaa.gov. In the subject heading of your email, please include “Written comments for the 48th U.S. Coral Reef Task Force Meeting”.

The oral and written comments NOAA and DOI receive are considered part of the public record, and the entirety of the comment, including the name of the commenter, email address, attachments, and other supporting materials, will be publicly accessible. Sensitive personally identifiable information, such as account numbers and Social Security numbers, should not be included with the comment. Comments that are not related to the U.S. Coral Reef Task Force or that contain profanity, vulgarity, threats, or other inappropriate language will not be considered.

FOR FURTHER INFORMATION CONTACT: Michael Lameier, NOAA USCRTF Steering Committee Point of Contact, NOAA Coral Reef Conservation Program, (410) 267-5673, michael.lameier@noaa.gov, or Liza Johnson, DOI USCRTF Steering Committee Executive Secretary, U.S. Department of Interior, (202) 255-9843, Liza_M_Johnson@ios.doi.gov, or visit the USCRTF website at http://www.coralreef.gov.

SUPPLEMENTARY INFORMATION: The meeting provides a forum for coordinated planning and action among Federal agencies, State and territorial governments, and non-governmental partners. Registration is requested to participate in the meeting. This meeting has time allotted for public oral comment from 2:00 p.m. to 2:30 p.m. ET. A written summary of the meeting will be posted on the USCRTF website within two months of occurrence. For more information about the meeting, registering for the meeting, and submitting public comments, visit http://www.coralreef.gov. During the oral comment period, commenters are encouraged to address the meeting, the role of the USCRTF, or general coral reef conservation issues.

Authority: 16 U.S.C. 6451 et seq.; E.O. 13089, 63 FR 32701.

Nicole R. LeBoeuf,
Assistant Administrator for Ocean Services and Coastal Zone Management, National Ocean Service, National Oceanic and Atmospheric Administration.

[FR Doc. 2024-08764 Filed 4-23-24; 8:45 am]

BILLING CODE 3510-08-P